ENVIRONMENTAL PROTECTION AGENCY

[EPA-HQ-OAR-2022-0708: FRL-10931-01-OMS]

Agency Information Collection Activities; Submission to the Office of Management and Budget for Review and Approval; Comment Request; National Refrigerant Recycling and Emissions Reduction Program (Renewal)

AGENCY: Environmental Protection Agency (EPA).

ACTION: Notice.

SUMMARY: The Environmental Protection Agency (EPA) has submitted an information collection request (ICR), National Refrigerant Recycling and Emissions Reduction Program” (EPA ICR Number 1626.18, OMB Control Number 2060-0256) to the Office of Management and Budget (OMB) for review and approval in accordance with the Paperwork Reduction Act. This is a proposed extension of the ICR, which is currently approved through April 30, 2023. Public comments were previously requested via the Federal Register on September 19, 2022 during a 60-day comment period. This notice allows for an additional 30 days for public comments.

DATES: Comments may be submitted on or before May 30, 2023.

ADDRESSES: Submit your comments, referencing Docket ID Number EPA-HQ-OAR-2022-0708, to EPA online using www.regulations.gov (our preferred method), by email to a-and-r-docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Robert Burchard, Stratospheric Protection Division, Office of Atmospheric Programs, 6205A, Environmental Protection Agency, 1200 Pennsylvania Ave. NW, Washington, DC 20460; telephone number: (202) 343-9126; email address: burchard.robert@epa.gov.

SUPPLEMENTARY INFORMATION: This is a proposed extension of the ICR, which is currently approved through April 30, 2023. An agency may not conduct or sponsor and a person is not required to respond to a collection of information unless it displays a currently valid OMB control number.

Public comments were previously requested via the Federal Register on September 19, 2022, during a 60-day comment period (87 FR 57194). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Section 608 of the Clean Air Act (CAA), also known as the National Recycling and Emission Reduction Program (the Program), directs the Environmental Protection Agency (EPA) to issue regulations governing the use of ozone-depleting substances (ODS), including chlorofluorocarbons (CFCs) and hydrochlorofluorocarbons (HCFCs), during the maintenance, service, repair, or disposal of air-conditioning and refrigeration appliances. Section 608 also prohibits knowingly venting or releasing ozone-depleting and substitute refrigerants in the course of maintaining, servicing, repairing, or disposing of appliances or industrial process refrigeration except for de minimis releases associated with good faith attempts to recycle or recover refrigerants. The regulations require persons servicing refrigeration and air-conditioning appliances to follow certain service practices that reduce emissions of refrigerants. The regulations also establish certification programs for technicians, recovery/recycling equipment, and refrigerant reclamation. In addition, EPA requires that refrigerants contained in appliances be removed prior to disposal of the appliances and that all refrigeration and air-conditioning appliances be provided with a servicing aperture that facilitates recovery of the refrigerant. The Agency requires that substantial refrigerant leaks in appliances containing ozone-depleting refrigerant be repaired when they are discovered.

Form Numbers: 5900-404, 5900-405, 5900-407.

Respondents/affected entities: Entities required to comply with reporting and recordkeeping requirements include technicians; technician certification programs; refrigerant wholesalers; refrigerant reclaimers; refrigerant recovery equipment certification programs; certain refrigeration and air-conditioning equipment owners and/or operators; and other establishments that perform refrigerant removal, service, or disposal.

Respondent's obligation to respond: Mandatory (40 CFR part 82, subpart F).

Estimated number of respondents: 572,727 (total).

Frequency of response: The frequency of responses varies from once a year to daily.

Total estimated burden: 425,514 hours (per year). Burden is defined at 5 CFR 1320.03(b)

Total estimated cost: $31,432,946 (per year), includes $0 annualized capital or operation & maintenance costs.

Changes in the Estimates: There is a decrease of 8,845 hours in the total estimated respondent burden compared with the ICR currently approved by OMB. This decrease is due to adjusted respondent estimates for appliance leak repair and retrofit or retirement plan extension requests based on recently available industry data and reported activity.

Courtney Kerwin,
Director, Regulatory Support Division.

[FR Doc. 2023-08872 Filed 4-26-23; 8:45 am]

BILLING CODE 6560-50-P